DEPARTMENT OF COMMERCE

International Trade Administration Mission Statement

AGENCY: Department of Commerce.

ACTION: Notice.

Application Deadline Extended

Secretarial Business Development Mission to Central America and the Dominican Republic

September 28-October 4, 2008.

SUMMARY: Secretary of Commerce Carlos M. Gutierrez will lead a senior-level business development trade mission to the Dominican Republic, Nicaragua and Costa Rica, September 28-October 4, 2008. The overall focus of the trip will be commercial opportunities for U.S. companies, including joint ventures and export opportunities. In each city (Santo Domingo, Dominican Republic, Managua, Nicaragua and San Jose, Costa Rica) the participants will have a market briefing followed by two days of one-on-one appointments with potential buyers/partners and meetings with high-level government officials.

DATES: The application deadline has been extended. Applications should be submitted to the Office of Business Liaison by August 7, 2008. Applications received after that date will be considered only if space and scheduling constraints permit.

Contact: Office of Business Liaison; Room 5062; Department of Commerce; Washington, DC 20230; Tel: (202) 482-1360; Fax: (202) 482-4054.

SUPPLEMENTARY INFORMATION: Mission Description: Secretary of Commerce Carlos M. Gutierrez will lead a senior-level U.S. business delegation to Costa Rica, the Dominican Republic, and Nicaragua, during September 28-October 4, 2008, to promote U.S. exports and investment in the leading industry sectors in Central America and the Dominican Republic and highlight regional opportunities for U.S. businesses that have resulted from the Central America-Dominican Republic-United States Free Trade Agreement (CAFTA-DR).

The mission will focus on assisting U.S. companies doing business in Central America and the Dominican Republic to increase their current level of exports and business interests as well as help U.S. companies that are experienced exporters enter the Central American and Dominican Republic markets for the first time. The mission will help participating firms gain market information, make business and government contacts, solidify business strategies, and advance specific projects, towards the goal of helping U.S. firms increase their exports and business interests in Central America and the Dominican Republic. The mission will include business-to-business matchmaking appointments with local companies, as well as meetings with key government officials, industry and trade associations, and American and local chambers of commerce. The mission will additionally provide a platform to address policy and commercial issues—including transparency, rule of law, financial reform and intellectual property rights protection and enforcement—that U.S. companies face in the Central American and Dominican Republic markets.

The delegation will be comprised of 15-20 U.S. firms representing a cross-section of U.S. industries with commercial interests in Central America and the Dominican Republic. The mission will also be open to participation by representatives of U.S. trade associations in the targeted industry sectors. Targeted industry sectors include, but are not limited to, the following:

• Automotive Hotel & Restaurant Equipment

• Computer Equipment & Peripherals

• Construction Equipment

• Electrical Power Generation & Distribution Equipment

• Food Processing & Packaging Equipment

• Hardware

• General & Household Consumer Goods

• Hotel & Restaurant Equipment

• Medical Equipment

• Optical Equipment

• Plastics

• Printing & Graphic Arts Equipment & Services

• Security & Safety Equipment & Services

• Telecommunications Equipment & Services

• Travel & Tourism

Representatives of the Overseas Private Investment Corporation (OPIC), U.S. Trade and Development Agency (USTDA), the Export-Import Bank of the United States (Ex-Im) and U.S. Agency for International Development (USAID) will be invited to participate (as appropriate) to provide information and counseling on their programs, as they relate to Central American and Dominican markets.

Commercial Setting: CAFTA-DR Region: The region created by the Central America-Dominican Republic-United States Free Trade Agreement, commonly referred to as CAFTA-DR, is the third largest export market in Latin America and the 14th largest market in the world for U.S. exports. The United States exports more to this region than it exports to Russia, Saudi Arabia, and Indonesia combined. Last year, U.S. exports to the region surpassed $22 billion (an increase of 14.4 percent over 2006) and nearly half of the region's imports are from the United States. CAFTA-DR provides substantial new market access for U.S. companies and solidifies the United States as the leading supplier of goods and services to Central America and the Dominican Republic by eliminating the vast majority of tariffs on U.S. goods exported to the region. More than 80 percent of U.S. exports of industrial and consumer products to Central America have become duty free immediately upon entry into force of the Agreement, with remaining tariffs phased out over 10 years. Small and medium-sized enterprises in particular should benefit from significant tariff cuts provided under CAFTA-DR. For more detailed information on CAFTA-DR tariff reductions, please visit: http://www.export.gov/fta/cafta/cafta_te.asp.

Costa Rica: In Costa Rica, the only country which has not yet implemented the Agreement, U.S. exports have shown a 10.9 percent increase in 2007, with a total of $4.6 billion. Costa Rica boasts the largest per capita income for any country in the CAFTA-DR region, along with the longest period of political stability. Last year, the country's economic growth rate rose by 6.8 percent. The economy is diversified with tourism/hospitality services, information technology, and medical equipment/instrumentation taking prominent roles. English is the dominant second language, and over one million tourists visit this country annually.

The United States is Costa Rica's leading trading partner, accounting for about 40 percent of Costa Rica's total imports. U.S. companies like Intel, Hewlett-Packard, Procter & Gamble and a number of franchising and service companies have established facilities here, due in many cases to the country's political stability, proximity to the U.S., and number of personnel who can combine technical expertise with the capability to speak English. For more detailed information on trade opportunities with Costa Rica, please visit: http://www.buyusa.gov/costarica/en/costaricacommercialguide.html.

Dominican Republic: The U.S. and the Dominican Republic enjoy a very strong commercial relationship. In 2007 the Dominican Republic showed a 13.8 percent increase in total U.S. exports of $6 billion.

The Dominican Republic (DR) is the sixth largest trading partner of the United States in the Western Hemisphere and the 32nd largest commercial partner of the United States in the world. The DR is also the largest market of the CAFTA-DR countries. Best industry prospects in the Dominican Republic include medical equipment, hotel and restaurant equipment, computer and peripherals, telecommunication equipment and tourism.

During the past two administrations, the government has increasingly adopted policies directed toward economic liberalization, including privatizing most state-owned enterprises and improving intellectual property rights protection and enforcement. For more detailed information on trade opportunities with the Dominican Republic please visit: http://www.buyusa.gov/caribbean/en/dominican_republic.html.

Nicaragua: U.S. exports to Nicaragua last year totaled $890 million, an 18.5 percent increase over 2006. The United States is Nicaragua's largest trading partner, the source of roughly 22% of Nicaragua's imports in 2007 and the destination for approximately 55% of its exports (including free zone exports). There are more than 100 wholly or partly-owned subsidiaries of U.S. companies currently operating in Nicaragua. The largest of these investments are in energy, financial services, light manufacturing, tourism, fisheries, and shrimp farming. For more detailed information on trade opportunities with Nicaragua, please visit: http://nicaragua.usembassy.gov/country_comercial_guide.html.

Mission Goals: This Mission will demonstrate the United States' continued commitment to the markets of Central America and the Dominican Republic since the U.S. passage and implementation of the CAFTA-DR. The Business Development Mission to Central America and the Dominican Republic will assist U.S. businesses to initiate or expand their exports and business interests to Costa Rica, the Dominican Republic, and Nicaragua's leading industry sectors by making business-to-business introductions, providing first-hand market access information, and providing access to government decision makers. The mission specifically aims to:

• Assist U.S. companies already doing business in Costa Rica, the Dominican Republic and Nicaragua to increase their business there;

• Assist U.S. companies that are experienced exporters to enter the Costa Rican, Dominican Republic and Nicaraguan markets for the first time;

• Assist our CAFTA-DR partners in attracting additional U.S. participation in major projects;

• Address obstacles to trade in Central America and the Dominican Republic, including transparency, rule of law, financial reform, and intellectual property rights protection and enforcement; and

• Provide information on U.S. Government trade financing programs, through the participation of representatives from OPIC, USTDA, Ex-Im, and USAID (as appropriate).

Mission Scenario: The mission to Central America and the Dominican Republic will include three stops: San Jose, Costa Rica; Santo Domingo, the Dominican Republic; and Managua, Nicaragua. In each city, participants will:

• Meet with high-level government officials;

• Meet with potential buyers, agents/distributors and partners;

• Meet with representatives of the chambers of commerce, industry and trade associations; and

• Attend briefings conducted by Embassy officials on the economic and commercial climates.

Receptions and other business events will be organized to provide mission participants with further opportunities to speak with local business and government representatives, as well as U.S. business executives living and working in the region.

Proposed Mission Timetable

Dominican Republic

Sunday, September 28

• Arrive in Santo Domingo

• Economic/Market Briefing by U.S. Government Officials

• Welcome Dinner

Monday, September 29

• Meetings with Dominican Republic Government Officials

• Business Event/Briefing with Local Industry Representatives

• Individual Company Appointments

• Reception Hosted by U.S. Ambassador

Tuesday, September 30

• Business Event/Briefing with Local Industry Representatives

• Individual Company Appointments

• Depart Santo Domingo

Nicaragua

Tuesday, September 30

• Arrive in Managua

• Economic/Market Briefing by U.S. Government Officials

Wednesday, October 1

• Meetings with Nicaraguan Government Officials

• Business Event/Briefing with Local Industry Representatives

• Individual Company Appointments

• Reception Hosted by U.S. Ambassador

Thursday, October 2

• Depart Country Managua

Costa Rica

Thursday, October 2

• Arrive in San Jose

• Economic/Market Briefing by U.S. Government Officials

• Business Event/Briefing with Local Industry Representatives

• Individual Company Appointments

• Reception Hosted by the U.S. Ambassador

Friday, October 3

• Meetings with Costa Rican Government Officials

• Individual Company Appointments

• Business Event/Briefing by Local Industry Representatives

Saturday, October 4

• Mission Ends and Mission Participants Depart San Jose

Participation Requirements: All parties interested in participating in the Central America and the Dominican Republic Business Development Mission must complete and submit an application package for consideration by the Department of Commerce. All applicants will be evaluated on their ability to meet certain conditions and best satisfy the selection criteria as outlined below. Between 15 and 20 companies will be selected to participate in the mission from the applicant pool.

Fees and Expenses: After a company has been selected to participate on the mission, a payment to the Department of Commerce in the form of a participation fee is required. The participation fee will be $10,000 for large firms and $7,000 for a small or medium-sized enterprise (SME), which includes one principal representative.* The fee for each additional firm representative (large firm or SME) is $2,500. Expenses for travel, lodging, some meals and incidentals will be the responsibility of each mission participant.

Conditions for Participation: An applicant must submit a completed and signed mission application and supplemental application materials, including adequate information on the company's products and/or services, primary market objectives, and goals for participation. If the Office of Business Liaison receives an incomplete application, the Department of Commerce may either: Reject the application, request additional information/clarification, or take the lack of information into account when we evaluate the applications.

Each applicant must also:

• Certify that the products and services it seeks to export through the mission are either produced in the United States, or, if not, marketed under the name of a U.S. firm and have at least fifty-one percent U.S. content. In cases where the U.S. content does not exceed fifty percent, especially where the applicant intends to pursue investment and major project opportunities, the following factors, often associated with U.S. ownership, may be considered in determining whether the applicant's participation in the trade mission is in the U.S. national interest:

○ U.S. materials and equipment content;

○ U.S. labor content;

○ Repatriation of profits to the U.S. economy; and/or

○ Potential for follow-on business that would benefit the U.S. economy;

• Certify that the export of the products and services that it wishes to export through the mission would be in compliance with U.S. export controls and regulations;

• Certify that it has identified to the Department of Commerce for its evaluation any business pending before the Department of Commerce that may present the appearance of a conflict of interest;

• Certify that it has identified any pending litigation (including any administrative proceedings) to which it is a party that involves the Department of Commerce; and

• Sign and submit an agreement that it and its affiliates (1) have not and will not engage in the bribery of foreign officials in connection with company's/participant's involvement in this mission, and (2) maintain and enforce a policy that prohibits the bribery of foreign officials.

Selection Criteria for Participation: Selection will be based on the following criteria in decreasing order of importance.

• Suitability of a company's products or services to the Central American and Dominican Republic markets and likelihood of a participating company's increasing exports to or investment in Costa Rica, the Dominican Republic or Nicaragua within a year as a result of this mission;

• Demonstrated export and/or investment experience in Central America and the Dominican Republic and/or globally;

• Current or pending major project participation; and

• Rank/seniority of the designated company representative.

Additional factors, such as diversity of company size, type, location, demographics, and traditional under-representation in business, may also be considered during the review process. Referrals from political organizations and any documents, including the application, containing references to partisan political activities (including political contributions) will be removed from an applicant's submission and not considered during the selection process.

Timeframe for Recruitment and Applications: Mission recruitment will be conducted in an open and public manner, including publication in the Federal Register, posting on the Commerce Department trade mission calendar (http://www.ita.doc.gov/doctm/tmcal.html) and other Internet Web sites, press releases to general and trade media, direct mail, broadcast fax, notices by industry trade associations and other multiplier groups, and publicity at industry meetings, symposia, conferences, and trade shows. The Office of Business Liaison and the International Trade Administration will explore and welcome outreach assistance from other interested organizations, including other U.S. Government agencies.

Recruitment for this mission will begin on June 2, 2008. Applications can be completed on-line at the Central American and the Dominican Republic Business Development Mission Web site at http://www.export.gov/caftadrmission or can be obtained by contacting the U.S. Department of Commerce Office of Business Liaison (202-482-1360 or caftadrmission@doc.gov).

The application deadline is Thursday, July 31, 2008. Completed applications should be submitted to the Office of Business Liaison. Applications received after July 31, 2008 will be considered only if space and scheduling constraints permit.

*An SME is defined as a firm with 500 or fewer employees or that otherwise qualifies as a small business under SBA regulations (see http://www.sba.gov/services/contractingopportunities/sizestandardstopics/index.html). Parent companies, affiliates, and subsidiaries will be considered when determining business size. The dual pricing schedule reflects the Commercial Service's user fee schedule that became effective May 1, 2008 (see http://www.export.gov/newsletter/march2008/initiatives.html for additional information).

General Information and Applications: The Office of Business Liaison, 1401 Constitution Avenue, NW., Room 5062, Washington, DC 20230, Tel: 202-482-1360, Fax: 202-482-4054, E-mail: CAFTADRMission@doc.gov.

Country Information: Michael McGee, Regional Senior Commercial Officer, Central America, El Salvador, Phone: (503) 2501-2999 x 3070; Fax: (503) 2501-3067, E-mail: Michael.Mcgee@mail.doc.gov;

Michael McGee (Until July 1st), Senior Commercial Officer, Costa Rica, Phone: (506) 2519-2207; Fax: (506) 2231-4783, E-mail: James.Mccarthy@mail.doc.gov;

Bryan Smith, Senior Commercial Officer, Costa Rica (effective July 1, 2008), Phone: (506) 2519-2207; Fax: (506) 2231-4783, E-mail: Bryan.Smith@mail.doc.gov;

Robert O. Jones, Senior Commercial Officer for the Caribbean Region, the Dominican Republic, Tel: (809) 227-2121; Fax: (809) 920-0267, robert.jones@mail.doc.gov;

Marixell García, Commercial Specialist, Econ/Commerce Section, Nicaragua, Tel: (505) 266-6010, Ext. 4371; Fax: (505) 266-9056 o (505) 266-6034, E-mail: GarciaMA5@state.gov.

Dated: July 29, 2008.
Jennifer Andberg,
Deputy Director, Office of Business Liaison.

[FR Doc. E8-17752 Filed 8-1-08; 8:45 am]

BILLING CODE 3510-25-P